DEPARTMENT OF LABOR

Office of the Assistant Secretary for Veterans Employment and Training; President's National Hire Veterans Committee; Notice of Open Meeting

The President's National Hire Veterans Committee was established under 38 U.S.C. 4100 Public Law 107-288, Jobs for Veterans Act, to furnish information to employers with respect to the training and skills of veterans and disabled veterans, and to the advantages afforded employers by hiring veterans with training and skills and to facilitate the employment of veterans and disabled veterans through participation in Career One Stop National Labor Exchange, and other means.

The President's National Hire Veterans Committee will meet on Tuesday, August 9, 2005 beginning at 1 p.m. at the Fairmount Chicago, Moulin Rouge Room, 200 N. Columbus Drive, Chicago, Illinois.

The committee will discuss raising corporate awareness to the advantages of hiring veterans.

Individuals needing special accommodations should notify Bill Offutt at (202) 693-4717 by August 2, 2005.

Signed in Washington, DC, this 8th of July, 2005.
Charles S. Ciccolella,
Acting Assistant Secretary of Labor for Veterans' Employment and Training.

[FR Doc. 05-14024 Filed 7-15-05; 8:45 am]

BILLING CODE 4510-79-M